DEPARTMENT OF LABOR

Office of the Secretary

Submission for OMB Review; Comment Request

June 30, 2000.

The Department of Labor (DOL) has submitted the following public information collection requests (ICRs) to the Office of Management and Budget (OMB) for review and approval in accordance with the Paperwork Reduction Act of 1995 (Pub. L. 104-13, 44 U.S.C. Chapter 35). A copy of each individual ICR, with applicable supporting documentation, may be obtained by calling the Department of Labor. To obtain documentation for BLS, ETA, PWBA, and OASAM contact Karin Kurz ((202) 219-5096 ext. 159 or by E-mail Kurz-Karin@dol.gov). To obtain documentation for ESA, MSHA, OSHA, and VETS contact Darrin King ((202) 219-5096 ext. 151 or by E-Mail to King-Darrin@dol.gov).

Comments should be sent to Office of Information and Regulatory Affairs, Attn: OMB Desk Officer for BLS, DM, ESA, ETA, MSHA, OSHA, PWBA, or VETS, Office of Management and Budget, Room 10235, Washington, DC 20503 ((202) 395-7316), by August 7, 2000.

The OMB is particularly interested in comments which:

• Evaluate whether the proposed collection of information is necessary for the proper performance of the functions of the agency, including whether the information will have practical utility;

• Evaluate the accuracy of the agency's estimate of the burden of the proposed collection of information, including validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Mine Safety and Health Administration (MSHA).

Title: Underground Retorts.

Type of Review: Extension.

OMB Number: 1219-0096.

Frequency: On occasion.

Affected Public: Business or other for-profit.

Number of Respondents: 1.

Number of Annual Responses: 1.

Estimated Time Per Response: 160 hours.

Total Burden Hours: 160.

Total Annualized capital/startup costs: $0.

Total annual costs (operating/maintaining systems or purchasing services): $0.

Description: Prior to ignition of underground retorts, mine operators must submit a written plan containing site-specific safeguards and safety procedures for the underground areas of the mine affected by the retorts. MSHA uses this information to ensure that safe practices are followed, and to determine that the procedures and safeguards used protect the safety of all persons in the mine during ignition and operation of a retort.

Agency: Mine Safety and Health Administration (MSHA).

Title: Product Testing by Applicant or Third Party.

Type of Review: Extension.

OMB Number: 1219-0100.

Frequency: On occasion.

Affected Public: Business or other for-profit.

Number of Respondents: 244.

Number of Annual Responses: 307.

Estimated Time Per Response: 4 hours (weighted average).

Total Burden Hours: 565.

Total Annualized capital/startup costs: $0.

Total annual costs (operating/maintaining systems or purchasing services): $42,243.

Description: To prevent fire and explosion hazards in underground mines, manufacturers of certain products are required to submit to MSHA applications for product approval. Certain records and reports are required to assure continued product quality.

Agency: Mine Safety and Health Administration (MSHA).

Title: Safety Standards for Roof Bolts in Metal and Nonmetal Mines and Underground Coal Mines.

Type of Review: Extension.

OMB Number: 1219-0121.

Frequency: On occasion.

Affected Public: Business or other for-profit.

Number of Respondents: 1,203.

Number of Annual Responses: 8,616.

Estimated Time Per Response: 3 minutes.

Total Burden Hours: 431.

Total Annualized capital/startup costs: $0.

Total annual costs (operating/maintaining systems or purchasing services): $0.

Description: Mine operators are required to obtain certification from the manufacturer that roof and rock bolts and accessories are manufactured and tested in accordance with applicable American Society for Testing and Materials (ASTM) specifications and make the certification available to an authorized representative of the Secretary.

Agency: Employment and Training Administration (ETA).

Title: Employment Service Reporting System.

Type of Review: Revision of a currently approved collection.

OMB Number: 1205-0240.

Affected Public: State, Local, or Tribal Government.

ETA form | Total respondents | Frequency | Total responses | Average minutes per response | Estimated total burden hours
Uses Report 9002A-C | 54 | Quarterly | 216 | 840 | 3,024
VETS 200A | 54 | Quarterly | 216 | 50 | 180
VETS 200B | 54 | Quarterly | 216 | 50 | 180
VETS 300 | 54 | Quarterly | 216 | 60 | 216
Management Report | 1,600 | Quarterly | 6,400 | 50 | 5,333
Totals | 1,654 |  | 7,264 | 210 | 8,933

Total annualized capital/startup costs: $16,000.

Total annual costs (operating/maintaining systems or purchasing services): $0.

Description: The Employment Service Program Reporting System will provide data on State public employment service agency program activity and expenditures for use at the Federal level by the U.S. Employment Service and the Veterans' Employment and Training Service in program administration and to provide reports to the Congress, state and local elected officials, and the general public.

Ira L. Mills,
Departmental Clearance Officer.

[FR Doc. 00-17234 Filed 7-6-00; 8:45 am]

BILLING CODE 4510-43-M